FEDERAL COMMUNICATIONS COMMISSION

47 CFR Part 64

[CG Docket No. 02-386; FCC 07-221]

Rules and Regulations Implementing Minimum Customer Account Record Exchange Obligations on All Local and Interexchange Carriers

AGENCY: Federal Communications Commission.

ACTION: Final rule.

SUMMARY: In this document, the Commission declines to adopt rules and regulations implementing minimum customer account record exchange obligations on all local carriers. This action is necessary because the Commission does not believe mandating the exchange of customer account information between LECs is appropriate at this time.

DATES: Effective December 21, 2007.

ADDRESSES: Federal Communications Commission, 445 12th Street, SW., Washington, DC 20554.

FOR FURTHER INFORMATION CONTACT: David Marks, Consumer and Governmental Affairs Bureau at (202) 418-0347 (voice), or e-mail David.Marks@fcc.gov.

SUPPLEMENTARY INFORMATION: This is a summary of the Commission's Rules and Regulations Implementing Minimum Customer Account Record Exchange Obligations on All Local and Interexchange Carriers, Report and Order, document FCC 07-221, adopted December 18, 2007, released December 21, 2007, declining to adopt rules and regulations implementing minimum customer account record exchange obligations on all local carriers.

Copies of document FCC 07-221 and any subsequently filed documents in this matter will be available for public inspection and copying during regular business hours at the FCC Reference Information Center, Portals II, 445 12th Street, SW., Room CY-A257, Washington, DC 20554. Document FCC 07-221 and any subsequently filed documents in this matter may also be purchased from the Commission's duplicating contractor at Portals II, 445 12th Street, SW., Room CY-B402, Washington, DC 20554. Customers may contact the Commission's duplicating contractor at their Web site: http://www.bcpiweb.com or call 1-800-378-3160. To request materials in accessible formats for people with disabilities (Braille, large print, electronic files, audio format), send an e-mail to fcc504@fcc.gov or call the Consumer & Governmental Affairs Bureau at (202) 418-0530 (voice) or (202) 418-0432 (TTY). Document FCC 07-221 can also be downloaded in Word and Portable Document Format (PDF) at: http://www.fcc.gov/cgb/policy.

Paperwork Reduction Act of 1995 Analysis

The Report and Order does not contain new information collection requirements subject to the Paperwork Reduction Act of 1995 (PRA), Public Law 104-13. In addition, it does not contain any new or modified “information collection burden for small business concerns with fewer than 25 employees,” pursuant to the Small Business Paperwork Relief Act of 2002, Public Law 107-198. See 47 U.S.C. 3506(c)(4).

Synopsis

In 2005, the Commission released a Further Notice of Proposed Rulemaking (Further Notice), FCC 05-29 published at 70 FR 32258, June 2, 2005, in which the Commission sought comment on whether to require the exchange of customer account information between local exchange carriers (LECs). In response to the Further Notice, BellSouth filed comments urging the Commission to adopt standards for LEC-to-LEC migrations. BellSouth urged the Commission to adopt information exchange requirements for all LECs and require carriers to respond to customer record requests within 24 hours.

Upon a review of the record, the Commission declines to adopt mandatory minimum standards for the exchange of customer account information between LECs. The Commission does not believe mandating the exchange of customer account information between LECs is appropriate at this time for several reasons.

First, a number of commenters note that Alliance for Telecommunications Industry Solutions (ATIS), Ordering and Billing Forum (OBF) has developed Local Service Migration Guidelines that are specifically designed to facilitate the sharing of customer service records among LECs. Because ATIS OBF is an established industry forum that includes representatives of both incumbent LECs and competitive LECs, the Commission encourages carriers to adhere to the industry-established guidelines and, where necessary, to work with the OBF industry forum to further develop and refine them.

Second, the Commission notes that a number of state commissions have addressed issues relating to local service migrations. Unlike LEC-to-inter-exchange carrier (IXC) information sharing requirements, for which states and a broad coalition of carriers supported nationwide standards for the exchange of information, the record here suggests that the problems with LEC-to-LEC exchanges may not be as widespread and, therefore, may be more appropriately addressed by individual state commissions, which are well-suited to address local service matters between LECs operating in their states.

Third, the Commission disagrees with those commenters that maintain LEC-to-LEC information sharing raises the same issues as LEC-to-IXC information sharing. Access to information makes LEC-to-LEC migrations different. In the LEC-to-IXC context, the Commission noted that certain transactions affecting an IXC's ability to provide service and manage customers' accounts, including the execution of customer preferred interexchange carrier (PIC) requests, are carried out, not by the customer's IXC, but by the customer's LEC. Because a LEC's exclusive control of the local switch could enable a LEC to place a customer on an IXC's network without the IXC's knowledge, the Commission determined that effective communications between LECs and IXCs is critical to an IXC's ability to maintain accurate billing records and to honor customer PIC selections and other customer requests. In the LEC-to-LEC situation, it does not appear that the new LEC is operating in the same information vacuum, or that the information needed could not be obtained from the LEC's new customer.

Finally, to the extent that critical customer account information cannot reasonably be obtained from a LEC's own customer and the customer's former LEC fails to provide such information in a timely manner thus causing unreasonable delay in a local service migration, the Commission notes that such conduct may constitute a violation of the Act and the Commission's rules. The Commission encourages carriers to bring such matters to our attention through the Commission's formal complaint procedures, which allow us to review them on a case-by-case basis to determine the scope and seriousness of the issues presented.

Congressional Review Act

Because no new rules are adopted in this order, the Commission will not send a copy of the Report and Order in a report to Congress and the Government Accountability Office pursuant to the Congressional Review Act, see 5 U.S.C. 801(a)(1)(A).

Ordering Clauses

Pursuant to the authority contained in sections 1-4, 201, 202, 222, 258, and 303(r) of the Communications Act of 1934, as amended; 47 U.S.C. 151-154, 201, 202, 222, 258, and 303(r), the Report and Order is adopted.

The Commission's Consumer and Governmental Affairs Bureau, Reference Information Center, shall send a copy of this Report and Order to the Chief Counsel for Advocacy of the Small Business Administration.

Federal Communications Commission.
Marlene H. Dortch,
Secretary.

[FR Doc. E8-118 Filed 1-7-08; 8:45 am]

BILLING CODE 6712-01-P